DEPARTMENT OF COMMERCE

National Oceanic and Atmospheric Administration

RIN 0648-XF757

South Atlantic Fishery Management Council; Public Meeting

AGENCY: National Marine Fisheries Service (NMFS), National Oceanic and Atmospheric Administration (NOAA), Commerce.

ACTION: Meeting of the South Atlantic Fishery Management Council.

SUMMARY: The South Atlantic Fishery Management Council (Council) will hold a meeting via webinar to discuss revisions to the Acceptable Biological Catch (ABC) Control Rule.

DATES: The Council meeting will be held from 9 a.m. to 12 p.m. on Monday, November 6, 2017.

ADDRESSES: The meeting will be held via webinar. The webinar is open to members of the public. Registration is required. Registration information will be posted on the Council's Web site at: http://safmc.net/meetings/council-meetings/.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The meeting will be held via webinar. Meeting information including agenda and briefing book materials will be posted on the Council's Web site as they become available at: http://safmc.net/meetings/council-meetings/. Public comment on agenda items will be accepted at the beginning of the meeting.

The items of discussion are as follows:

1. Update on Scientific and Statistical Committee (SSC) discussions pertaining to revisions to the ABC Control Rule,

2. Review options for possible actions, and

3. Discuss and provide guidance.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the council office (see ADDRESSES) 3 days prior to the meeting.

Note: The times and sequence specified in this agenda are subject to change.

Authority: 16 U.S.C. 1810 et seq.

Dated: October 11, 2017.
Jeffrey N. Lonergan,
Acting Deputy Director, Office of Sustainable Fisheries, National Marine Fisheries Service.

[FR Doc. 2017-22362 Filed 10-13-17; 8:45 am]

BILLING CODE 3510-22-P